FEDERAL COMMUNICATIONS COMMISSION

47 CFR Part 73

[DA 08-1710; MB Docket No. 08-86; RM-11432]

Radio Broadcasting Services; Custer, MI

AGENCY: Federal Communications Commission.

ACTION: Proposed rule.

SUMMARY: This document sets forth a proposal to amend the FM Table of Allotments, Section 73.202(b) of the Commission's rules, 47 CFR 73.202(b). The Commission requests comment on a petition filed by Roy E. Henderson. Petitioner proposes the substitution of FM Channel 227A for vacant Channel 263A at Custer, Michigan. The purpose of the requested channel substitution at Custer is to eliminate a short-spacing with the facilities proposed in an application to upgrade the facilities of Station WCUZ(FM) at Bear Lake, Michigan, from FM Channel 261A to Channel 264C3. Channel 227A can be allotted at Custer in compliance with the Commission's minimum distance separation requirements with a site restriction of 13.1 km (8.1 miles) northeast of Custer. The proposed coordinates for Channel 227A at Custer are 44-03-28 North Latitude and 85-08-56 West Longitude. Concurrence by the Government of Canada is required for the allotment of Channel 227A at Custer, Michigan, because the proposed allotment is located within 320 kilometers (200 miles) of the U.S.-Canadian border. See SUPPLEMENTARY INFORMATION infra.

DATES: Comments must be filed on or before September 15, 2008, and reply comments on or before September 30, 2008.

ADDRESSES: Federal Communications Commission, Washington, DC 20554. In addition to filing comments with the FCC, interested parties should serve petitioner's counsel as follows: Robert J. Buenzle, Esq., Law Offices of Robert J. Buenzle, 11710 Plaza America Drive, Suite 2000, Reston, Virginia 20190.

FOR FURTHER INFORMATION CONTACT: Deborah A. Dupont, Media Bureau (202) 418-7072.

SUPPLEMENTARY INFORMATION: This is a synopsis of the Commission's Notice of Proposed Rule Making, MB Docket No. 08-26, adopted July 23, 2008, and released July 25, 2008. The full text of this Commission decision is available for inspection and copying during normal business hours in the FCC Reference Information Center (Room CY-A257), 445 12th Street, SW., Washington, DC 20554. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Michigan, is amended by removing Channel 263A and by adding Channel 227A at Custer.

Federal Communications Commission.
John A. Karousos,
Assistant Chief, Audio Division, Media Bureau.

[FR Doc. E8-18614 Filed 8-12-08; 8:45 am]

BILLING CODE 6712-01-P